DEPARTMENT OF THE INTERIOR

Bureau of Reclamation

Lower Santa Ynez River Fish Management Plan and Cachuma Project Biological Opinion, for Southern Steelhead Trout, Santa Barbara County, CA

AGENCY: Bureau of Reclamation, Interior.

ACTION: Notice to correct the date of availability of the draft environmental impact statement/environmental impact report (EIS/EIR).

SUMMARY: This notice corrects the date of availability of the Draft EIS/EIR for the Lower Santa Ynez River Fish Management Plan and Cachuma Project Biological Opinion, for Southern Steelhead Trout, Santa Barbara County, California. An incorrect date, April 2003, was erroneously reported in the Federal Register (68 FR 43748, July 24, 2003). The correct, actual date for the availability of the Draft EIS/EIR is July 24, 2003.

FOR FURTHER INFORMATION CONTACT: Mr. David Young, Bureau of Reclamation, South-Central California Area, 1243 N Street, Fresno, CA 93721, 559-487-5127.

Dated: September 2, 2003.
Frank Michny,
Regional Environmental Officer, Mid-Pacific Region.

[FR Doc. 03-22714 Filed 9-5-03; 8:45 am]

BILLING CODE 4310-MN-P